DEPARTMENT OF TRANSPORTATION

Federal Aviation Administration

Notice of Release From Federal Grant Assurance Obligations and Land Exchange, Tucson International Airport, Tucson, Pima County, Arizona

AGENCY: Federal Aviation Administration, DOT.

ACTION: Notice of request to release airport land.

SUMMARY: The Federal Aviation Administration (FAA) is considering a proposal and invites public comment on the application for release of approximately 158-acres more or less of property from federal Grant Assurance obligations and land exchange at Tucson International Airport, Tucson, Arizona. Tucson Airport Authority (TAA) is requesting a total release from federal obligations on approximately 158-acres more or less of TAA property, and to authorize a land exchange of approximately 61.4-acres more or less [and cash] between TAA and the United States Air Force (USAF). The release property is comprised of a portion of two parcels along the southern boundary of the abandoned Hughes Access Road, adjacent to the main airport airfield and campus.

DATES: Comments must be received on or before March 24, 2023.

ADDRESSES: Comments on the request may be mailed or delivered to the FAA at the following address: Mr. Mike N Williams, Manager, Phoenix Airports District Office, Federal Aviation Administration, 3800 N Central Ave, Suite 1025, 10th Floor, Phoenix, Arizona, 85012. In addition, one copy of the comment submitted to the FAA must be mailed or delivered to Ms. Danette Bewley, A.A.E., President and Chief Executive Officer, Tucson Airport Authority, 7250 S Tucson Boulevard, Suite 300, Tucson, AZ 85756.

SUPPLEMENTARY INFORMATION: The release property is 158-acres more or less is a portion of two combined parcels, Parcel 22 and Parcel 34. Parcel 22 was acquired from the State of Arizona with Airport Improvement Program (AIP) funding via Patent dated February 24, 2002. Parcel 34 was acquired from the State of Arizona with Passenger Facility Charge (PFC) funding via Patent dated June 6, 2002. The 158-acres more or less portion of subject land identified as Parcel G is not currently required for aeronautical purposes. TAA is intending to exchange Parcel G property and cash, with approximately 61.4-acres more or less of USAF property known as Parcel F.

The exchange is based on appraisals estimating fair market value of the affected parcels. TAA will acquire fee simple ownership of 61.4-acres more or less and easements restricting development on 182.6-acres more or less from USAF in exchange for USAF acquiring fee simple ownership of 158.0-acres more or less, use restriction easements on 107-acres more or less, access easement of three acres of TAA land and $1,640,000 in financial compensation. TAA will also fund the demolition and replacement of several munitions storage bunkers located on USAF property. Such use of the land represents a compatible land use that will not interfere with the airport or its operation, thereby protecting the interests of civil aviation. The resulting actions would allow future airport development for TAA and will support the USAF through providing the required munitions safety separation distances.

In accordance with the Wendell H. Ford Aviation Investment and Reform Act for the 21st Century (AIR 21), Public Law 106-181 (Apr. 5, 2000; 114 Stat. 61), this notice must be published in the Federal Register 30 days before the DOT Secretary may waive any condition imposed on a federally obligated airport by surplus property conveyance deeds or grant agreements.

Issued in El Segundo, California, on February 15, 2023.
Brian Q. Armstrong,
Manager, Safety and Standards Branch, Airports Division, Western-Pacific Region.

[FR Doc. 2023-03620 Filed 2-21-23; 8:45 am]

BILLING CODE 4910-13-P